INTERNATIONAL TRADE COMMISSION

[Investigation No. 1205-5]

Proposed Modifications to the Harmonized Tariff Schedule of the United States

AGENCY: United States International Trade Commission.

ACTION: Additional Proposed Amendments.

EFFECTIVE DATE: December 21, 2000.

SUMMARY: On November 18, 1999, the Commission instituted investigation No. 1205-5, Proposed Modifications to the Harmonized Tariff Schedule of the United States, pursuant to section 1205 of the Omnibus Trade and Competitiveness Act of 1988. Section 1205 directs the Commission to keep Harmonized Tariff Schedule of the United States (HTS) under continuous review and to recommend modifications to the HTS (1) when amendments to the International Convention on the Harmonized Commodity Description and Coding System (Harmonized System), and the Protocol thereto, are recommended by the World Customs Organization (WCO) (formerly known as the Customs Cooperation Council) for adoption, and (2) as other circumstances warrant. The Commission's final report will set forth the proposed changes and indicate the necessary changes in the HTS that would be needed to conform the HTS to the international nomenclature structure; the report will also include other appropriate explanatory information on the proposed changes. A preliminary report was submitted to the Office of the United States Trade Representative in March 2000. Since that time, the Commission has been informed of additional proposed amendments to the HTS that should be included in the final report.

FOR FURTHER INFORMATION CONTACT: Eugene A. Rosengarden, Director (202-205-2592), Office of Tariff Affairs and Trade Agreements, U.S. International Trade Commission, Washington, DC 20436. Hearing impaired individuals are advised that information on this investigation can be obtained by contacting the TDD terminal on (202) 205-1810.

Background

The majority of the changes proposed in the Commission's preliminary report are the result of the work of the WCO and its Harmonized System Committee (HSC) to update and clarify the Harmonized System nomenclature, as part of the WCO's long-term program to review the nomenclature structure on a formal basis. These proposed changes, which are to become effective in January 2002, are available in the Office of the Secretary, Room 112, United States International Trade Commission, 500 E Street SW., Washington, DC 20436 (telephone 202-205-2000) and are posted on the Commission's website (http://www.usitc.gov). These changes encompass all decisions taken by the HSC since the implementation of the last set of WCO modifications to the Harmonized System, which were effective as of January 1, 1996. Future notices will be issued in this investigation indicating the final resolution of all matters and decisions taken by the HSC during the course of Commission consideration. Other proposed changes included in this investigation are requested by the U.S. Customs Service, in order to clarify the proper tariff classification and duty treatment of particular goods due to decisions of the Court of International Trade, the HSC, or the US Customs Service. These changes, including those which are the subject of this notice, will be treated separately in the Commission's final report. The Commission has prepared non-authoritative cross-reference tables in its preliminary report to provide guidance to potentially affected parties and to show the likely existing and future tariff classifications of the goods concerned. The Customs Service has domestic legal authority for tariff classification and may provide information, both during the course of the investigation and after the Commission's report is submitted, that indicates different or additional tariff classifications of some goods. Moreover, the WCO will eventually issue a cross-reference table under Article 16 of the Harmonized System Convention, indicating the agreed international classifications (existing and future) of the goods affected by the proposed changes. The latter table may be release later in the Commission's investigation, and differences between international and domestic classification of a few goods may be suggested (in some cases due to reservations filed by WCO member countries or to theoretical or asserted classifications for some goods). Thus, the classifications shown in the Commission's cross-reference tables may be subject to change in the final report.

Additional Proposed Amendments to the HTS

In addition to the changes to the HTS proposed in the Commission's preliminary report, the following changes are also proposed, in order to correct an error made during the conversion of the former Tariff Schedules of the United States (TSUS) to the format of the Harmonized System. These new proposed changes are set out below.

(1) Subheading 2924.29.41: Delete the reference to “Methyl-4-aminobenzenesulfonylcarbamate (Asulam)” from the Article Description, so that the description would read as follows:

“3-Ethoxycarbonylaminophenyl-N-phenylcarbamate (Desmedipahm); and Isopropyl-N-(3-chlorophenyl)car-bamate (CIPC)”

Renumber the subheading as 2924.29.43 to reflect a change in its scope.

(2) Subheading 2935.00.05: Insert a reference to “Methyl-4-aminobenzenesulfonylcarbamate (Asulam)” in the Article Description, so that the description would read as follows:

“4-Amino-6-chloro-m-benzenedisulfonamide; and Methyl-4-aminobenzenesulfonylcarbamate (Asulam)”

Renumber the subheading as 2935.00.06 to reflect a change in its scope.

Written Submissions

Interested parties are invited to submit written statements concerning two proposed changes outlined above. Commercial or financial information that a submitter desires to treat as confidential must be submitted on separate sheets of paper, each clearly marked “Confidential Business Information” at the top. All submissions requesting confidential treatment must conform with the requirements of § 201.6 of the Commission's rules of practice and procedure (19 CFR 201.6). All written submissions, except for confidential business information, will be made available in the Office of the Secretary of the Commission for inspection by interested parties. To be assured of consideration by the Commission, written statements relating to the proposed changes above should be submitted to the Commission at the earliest practical date and should be received no later than the close of business on January 19, 2001. All submissions should be addressed to the Secretary, United States International Trade Commission, 500 E Street SW, Washington, DC 20436. The Commission's rules do not authorize filing submissions with the Secretary by facsimile or by electronic means.

Persons with mobility impairments who will need special assistance in gaining access to the Commission should contact the Office of the Secretary at 202-205-2000. General information concerning the Commission may also be obtained by accessing its Internet server (http://www.usitc.gov).

List of Subjects

Tariffs/HTS, Harmonized System, WCO, and imports.

Issued: December 21, 2000.
By order of the Commission.
Donna R. Koehnke,
Secretary.

[FR Doc. 00-33257 Filed 12-28-00; 8:45 am]

BILLING CODE 7020-02-P